DEPARTMENT OF THE INTERIOR

Bureau of Land Management

[LLMT922200-12-L13100000-FI0000-P; NDM95190]

Notice of Proposed Reinstatement of Terminated Oil and Gas Lease NDM 95190, North Dakota

AGENCY: Bureau of Land Management, Interior.

ACTION: Notice.

SUMMARY: Per 30 U.S.C. 188(d), ABACO Energy LLC, Brent Clum, Cody Oil & Gas Corporation, Earthstone Energy Inc., Global Gas & Oil LLC, Hill LP, Jerry Jones, MBI Oil & Gas LLC, Vincent Melashenko, Missouri River Royalty Corporation, Northern Energy Corporation, Panther Energy Company LLC, David Peterson, Rainbow Energy Marketing Corporation, Red Willow Great Plains LLC, Slawson Exploration Company Inc., Stewart Geological Inc., Sunshine Pacific Corporation, United Energy Trading LLC, WHC Exploration LLC and Wolfe Exploration LLC timely filed a petition for reinstatement of competitive oil and gas lease NDM 95190, McKenzie and Williams counties, North Dakota. The lessee paid the required rental accruing from the date of termination.

No leases were issued that affect these lands. The lessees agree to new lease terms for rentals and royalties of $10 per acre and 16-2/3 percent. The lessees paid the $500 administration fee for the reinstatement of the lease and the $163 cost for publishing this Notice.

The lessees met the requirements for reinstatement of the lease per Sec. 31 (d) and (e) of the Mineral Leasing Act of 1920 (30 U.S.C. 188). We are proposing to reinstate the lease, effective the date of termination subject to the:

• Original terms and conditions of the lease;

• Increased rental of $10 per acre;

• Increased royalty of 16-2/3 percent; and

• $163 cost of publishing this Notice.

FOR FURTHER INFORMATION CONTACT: Teri Bakken, Chief, Fluids Adjudication Section, Bureau of Land Management Montana State Office, 5001 Southgate Drive, Billings, Montana 59101-4669, 406-896-5091, tbakken@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

Teri Bakken,
Chief, Fluids Adjudication Section.

[FR Doc. 2012-8449 Filed 4-6-12; 8:45 am]

BILLING CODE 4310-DN-P